DEPARTMENT OF TRANSPORTATION

Federal Aviation Administration

Notice of Intent To Rule on Request To Release Airport Property at the Gillespie County Airport in Fredericksburg, Texas

AGENCY: Federal Aviation Administration (FAA), DOT.

ACTION: Notice of request to release airport property.

SUMMARY: The FAA proposes to rule and invite public comment on the release of land at the Gillespie County Airport under the provisions of Section 125 of the Wendell H. Ford Aviation Investment Reform Act for the 21st Century (AIR 21).

DATES: Comments must be received on or before September 23, 2015.

ADDRESSES: Comments on this application may be mailed or delivered to the FAA at the following address: Mr. Ed Agnew, Manager, Federal Aviation Administration, Southwest Region, Airports Division, Texas Airports Development Office, ASW-650, Fort Worth, Texas 76177.

In addition, one copy of any comments submitted to the FAA must be mailed or delivered to Mr. Roger Hansen, Airport Manager, at the following address: 101 W Main Unit 9, Fredericksburg, Texas 78624.

FOR FURTHER INFORMATION CONTACT: Mr. Anthony Mekhail, Program Manager, Federal Aviation Administration, Texas Airports Development Office, ASW-650, 10101 Hillwood Parkway, Fort Worth, TX 76177, Telephone: (817) 222-5663, email: Anthony.Mekhail@faa.gov.

The request to release property may be reviewed in person at this same location.

SUPPLEMENTARY INFORMATION: The FAA invites public comment on the request to release property at the Gillespie County Airport under the provisions of the AIR 21.

The following is a brief overview of the request:

Gillespie County requests the release of 5 acres of non-aeronautical airport property. The property is located south of FM 2093 and between Airport Road and Business Court. The property to be released will be sold and revenues shall be used for the operation and maintenance at the airport.

Any person may inspect the request in person at the FAA office listed above under FOR FURTHER INFORMATION CONTACT.

In addition, any person may, upon request, inspect the application, notice and other documents relevant to the application in person at the Gillespie County Airport, telephone number (830) 990-5764.

Issued in Fort Worth, Texas on 7 August, 2015.
Ignacio Flores,
Manager, Airports Division.

[FR Doc. 2015-20916 Filed 8-21-15; 8:45 am]

BILLING CODE 4910-13-P